DEPARTMENT OF ENERGY

Federal Energy Regulatory Commission

[Project No. 6440-009]

Lakeport Hydroelectric One, LLC; Notice of Comment Period Extension

On December 19, 2018, Lakeport Hydroelectric One, LLC held a public meeting and site visit in support of the re-licensing process for the Lakeport Hydroelectric Project No. 6440. Pursuant to 18 CFR 16.8(b)(5), participants must file comments within 60 days of the public meeting. Due to the funding lapse at certain federal agencies between December 22, 2018 and January 25, 2019, the Commission is extending the comment period to March 25, 2019.

Dated: February 8, 2019.
Kimberly D. Bose,
Secretary.

[FR Doc. 2019-02342 Filed 2-13-19; 8:45 am]

BILLING CODE 6717-01-P